DEPARTMENT OF COMMERCE

Patent and Trademark Office

37 CFR Part 1

[Docket No.: PTO-P-2014-0004]

Extension of Deadline for Requesting To Testify at the Public Hearings on the Proposed Changes To Require Identification of Attributable Owner

AGENCY: United States Patent and Trademark Office, Commerce.

ACTION: Notice of public hearings and extension of period for requesting to testify.

SUMMARY: The United States Patent and Trademark Office (Office) published a notice on January 24, 2014, proposing changes to the rules of practice to require that the attributable owner, including the ultimate parent entity, be identified during the pendency of a patent application and at specified times during the life of a patent, and seeking written comments on the proposed changes. This initiative is one of a number of executive actions issued by the Administration that are designed to ensure issuance of the highest-quality patents, enhance competition by providing the public with more complete information about the competitive environment in which innovators operate, improve market efficiency for patent rights by making patent ownership information more readily and easily available, reduce abusive patent litigation by helping the public defend itself against frivolous litigation, and level the playing field for innovators. The Office published a notice on February 20, 2014 indicating that it was conducting two public hearings to introduce the proposed changes and directly receive feedback from the public. The notice published on February 20, 2014 also extended the period for comment on the proposed rules until April 24, 2014. The Office is now extending the deadline for requesting to testify at either public hearing until March 12, 2014.

DATES: Public Hearing Dates: The first public hearing will take place on March 13, 2014, from 1 p.m. Eastern Daylight Time (EDT) until 4 p.m. EDT, in Alexandria, Virginia.

The second public hearing will take place on March 26, 2014, from 9 a.m. Pacific Daylight Time (PDT) until noon PDT, in San Francisco, California.

Requests To Provide Oral Testimony: Those wishing to provide oral testimony must submit a request to do so in writing no later than March 12, 2014. Members of the public who wish to attend solely to observe need not submit a request to attend.

ADDRESSES: Public Hearings: The first public hearing will take place at: Madison Auditorium North, Concourse Level, United States Patent and Trademark Office Headquarters, 600 Dulany Street, Alexandria, Virginia 22314.

The second public hearing will take place at: The University of California Hastings College of the Law, Louis B. Mayer Lounge, 198 McAllister Street, San Francisco, California 94102.

Requests To Provide Oral Testimony: Requests to provide oral testimony at either public hearing must be sent by electronic mail message over the Internet addressed to: aohearingrequest@uspto.gov.

FOR FURTHER INFORMATION CONTACT: James Engel, Senior Legal Advisor (571) 272-7725), or Erin M. Harriman, Legal Advisor (571) 272-7747), Office of Patent Legal Administration, Office of the Deputy Commissioner for Patent Examination Policy.

SUPPLEMENTARY INFORMATION: The Office recently published a notice of proposed rulemaking proposing to require the disclosure of ownership information about patents and applications and requesting comments about the voluntary reporting of licensing offers and commitments and making them available online. See Changes to Require Identification of Attributable Owner, 79 FR 4105 (Jan. 24, 2014). Under the proposed rulemaking, the Office plans to collect information on the “attributable owner” of a patent or application, which includes the titleholders, entities with rights to enforce the patent, and entities with effective control over anyone reported in the first two categories, called the “ultimate parent entities.”

The Office also published a notice that it was conducting two public hearings (the first in Alexandria, Virginia, and the second in San Francisco, California) to introduce the proposed changes and directly receive feedback from the public. See Notice of Public Hearings and Extension of Comment Period on the Proposed Changes to Require Identification of Attributable Owner, 79 FR 9677 (Feb. 20, 2014). The notice palso extended the period for comment on the proposed rules until April 24, 2014. The Office is now extending the deadline for requesting to testify at either public hearing until March 12, 2014, to provide interested members of the public with additional time to request to provide testimony at this public hearing.

Members of the public who wish to provide oral testimony at either public hearing must submit a timely request (i.e., must submit a request to provide oral testimony no later than March 12, 2014). Requests to provide oral testimony at either public hearing must indicate the following information: (1) The name of the person desiring to speak; (2) the person's contact information (telephone number and electronic mail address); (3) the organization(s) the person represents, if any; and (4) the hearing location where the person prefers to speak. A person must be physically present at the hearing location to provide oral testimony; virtual testimony via telephone or webcast is not available. Based on the requests received, an agenda of scheduled speakers will be sent to those speaking and posted on the Office's Internet Web site at http://www.uspto.gov. The number of speakers and time allotted to each speaker may be limited to ensure that all persons speaking will have a meaningful chance to do so.

Members of the public who wish to attend solely to observe need not submit a request to attend. In addition, the public is welcome to submit written comments in response to the proposed changes in addition to, or lieu of, presenting oral testimony at these public hearings.

The Office also plans to make the public hearings available via Web cast. Web cast information will be available on the Office's Internet Web site closer to the public hearing dates. A transcript of the public hearings will be available for viewing via the Office's Internet Web site at http://www.uspto.gov, and will be available for public inspection at the Office of the Commissioner for Patents, currently located in Madison East, Tenth Floor, 600 Dulany Street, Alexandria, Virginia 22314, upon request.

Dated: March 6, 2014.
Michelle K. Lee,
Deputy Under Secretary of Commerce for Intellectual Property and Deputy Director of the United States Patent and Trademark Office.

[FR Doc. 2014-05281 Filed 3-11-14; 8:45 am]

BILLING CODE 3510-16-P